DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting via web conference call of the Sanctuary System Business Advisory Council (Council). The web conference call is open to the public, and participants can dial into the call. Participants who choose to use the web conferencing feature in addition to the audio will be able to view the presentations as they are being given.

DATES: Members of the public wishing to participate in the meeting must register in advance by May 27, 2014. The meeting will be held Wednesday, May 28, 2014, from 2:00 p.m. to 4:00 p.m. e.d.t., and an opportunity for public comment will be provided at 3:30 p.m. e.d.t. These times and the agenda topics described below are subject to change.

ADDRESSES: The meeting will be held via web conference call. Register by contacting Rebecca Holyoke at rebecca.holyoke@noaa.gov or (301) 713-7264. Webinar and teleconference capacity may be limited.

FOR FURTHER INFORMATION CONTACT: Rebecca Holyoke, Office of National Marine Sanctuaries, 1305 East-West Highway, Silver Spring, Maryland 20910. (Phone: 301-713- 7264, Fax: 301-713-0404; email: rebecca.holyoke@noaa.gov).

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. The Sanctuary System Business Advisory Council (Council) has been formed to provide advice and recommendations to the Director regarding the relationship of the ONMS with the business community. Additional information on the Council can be found at http://sanctuaries.noaa.gov/management/bac/welcome.html.

Matters To Be Considered: This is the second meeting of the Council and, as such, will be devoted to additional introductory presentations and discussions about the National Marine Sanctuary System and potential recommendations for moving forward with the Council. The agenda is subject to change. The agenda is available at http://sanctuaries.noaa.gov/management/bac/welcome.html.

Authority: 16 U.S.C. Sections 1431, et seq.

(Federal Domestic Assistance Catalog Number 11.429 Marine Sanctuary Program).

Dated: April 28, 2014.
Daniel J. Basta,
Director, Office of National Marine Sanctuaries, National Ocean Service, National Oceanic and Atmospheric Administration.

[FR Doc. 2014-10444 Filed 5-9-14; 8:45 am]

BILLING CODE 3510-NK-P